DEPARTMENT OF VETERANS AFFAIRS

Privacy Act of 1974; System of Records

AGENCY: Department of Veterans Affairs (VA).

ACTION: Notice of amendment to system of records.

SUMMARY: The Privacy Act of 1974 (5 U.S.C. 552(e)(4)) requires that all agencies publish in the Federal Register a notice of the existence and character of their systems of records. Notice is hereby given that the Department of Veterans Affairs (VA) is amending the system of records entitled “Readjustment Counseling Service (RCS) Vet Center Program—VA” (64VA15) as set forth in the Federal Register 46 FR 9844 and last amended May 31, 2001. VA is amending the system by revising Routine Uses of Records Maintained in the System, Including Categories of Users and the Purposes of Such Uses. VA is republishing the system notice in its entirety at this time.

DATES: Comments on the amendment of this system of records must be received no later than July 20, 2009. If no public comment is received, the amended system will become effective July 20, 2009.

ADDRESSES: Written comments may be submitted through http://www.Regulations.gov; by mail or hand-delivery to Director, Regulations Management (02REG), Department of Veterans Affairs, 810 Vermont Avenue, NW., Room 1068, Washington, DC 20420; or by fax to (202) 273-9026. Comments received will be available for public inspection in the Office of Regulation Policy and Management, Room 1063B, between the hours of 8 a.m. and 4:30 p.m., Monday through Friday (except holidays). Please call (202) 461-4902 (this is not a toll-free number) for an appointment. In addition, during the comment period, comments may be viewed online through the Federal Docket Management System (FDMS) at http://www.Regulations.gov.

FOR FURTHER INFORMATION CONTACT: Veterans Health Administration (VHA) Privacy Officer, Department of Veterans Affairs, 810 Vermont Avenue, NW., Washington, DC 20420, telephone (704) 245-2492.

SUPPLEMENTARY INFORMATION: The name and number of the system is changed from “Vietnam Veterans Readjustment Counseling Program—VA” (64VA116) to “Readjustment Counseling Service (RCS) Vet Center Program—VA” (64VA15). The change in name will more accurately reflect the broader group of veterans receiving services and the environment in which the services are delivered.

For purposes of this notice changes have been made to update the following sections: Addresses and Routine Uses of Records Maintained in the System, Including Categories of Users and the Purposes of Such Uses. According to VA leadership, routine uses one through seven are mandatory new routine uses that are added to comply with new Federal policy and guidelines. Listed below are the mandatory routine uses that must be included in every System of Records according to VA leadership in order to comply with Federal regulations.

A new Routine Use one (1) is added. The record of an individual who is covered by a system of records may be disclosed to a Member of Congress, or a staff person acting for the member, when the member or staff person requests the record on behalf of and at the written request of the individual.

VA must be able to provide information about individuals to adequately respond to inquiries from Members of Congress at the request of constituents who have sought their assistance.

A new Routine Use two (2) is added. Disclosure may be made to the National Archives and Records Administration (NARA) and the General Services Administration (GSA) in records management inspections conducted under authority of Title 44, Chapter 29, of the United States Code (U.S.C.).

NARA and GSA are responsible for management of old records no longer actively used, but which may be appropriate for preservation, and for the physical maintenance of the Federal government's records. VA must be able to provide the records to NARA and GSA in order to determine the proper disposition of such records.

A new Routine Use three (3) is added. Records from a system of records may be disclosed to the Department of Justice (DOJ) (including U.S. Attorneys) or in a proceeding before a court, adjudicative body, or other administrative body when litigation or the adjudicative or administrative process is likely to affect VA, its employees, or any of its components is a party to the litigation or process, or has an interest in the litigation or process, and the use of such records is deemed by VA to be relevant and necessary to the litigation or process, provided that the disclosure is compatible with the purpose for which the records were collected.

VA must be able to provide information to DoJ in litigation where the United States or any of its components is involved or has an interest. A determination would be made in each instance that under the circumstances involved; the purpose is compatible with the purpose for which VA collected the information. This routine use is distinct from the authority to disclose records in response to a court order under subsection (b)(11) of the Privacy Act, 5 U.S.C. 552(b)(11), or any other provision of subsection (b), in accordance with the court's analysis in Doe v. DiGenova, 779 F.2d 74, 78-84 (DC Cir. 1985) and Doe v. Stephens, 851 F.2d 1457, 1465-67 (DC Cir. 1988).

A new Routine Use four (4) is added. Disclosure of relevant information may be made to individuals, organizations, private or public agencies, or other entities with whom VA has a contract or agreement or where there is a subcontract to perform such services as VA may deem practicable for the purposes of laws administered by VA, in order for the contractor or subcontractor to perform the services of the contract or agreement.

This routine use, which also applies to agreements that do not qualify as contracts defined by Federal procurement laws and regulations, is consistent with OMB guidance in OMB Circular A-130, App. I, paragraph 5a(1)(b) that agencies promulgate routine uses to address disclosure of Privacy Act-protected information to contractors in order to perform the services contracts for the agency.

A new Routine Use five (5) is added. VA may disclose on its own initiative any information that is relevant to a suspected or reasonably imminent violation of the law whether civil, criminal, or regulatory in nature and whether arising by general or program statute or by regulation, rule, or order issued pursuant thereto, to a Federal, State, local, tribal, or foreign agency charged with the responsibility of investigating or prosecuting such violation, or charged with enforcing or implementing the statute, regulation, rule, or order. VA may also disclose on its own initiative the names and addresses of veterans and their dependents to a Federal agency charged with the responsibility of investigating or prosecuting civil, criminal or regulatory violations of law, or charged with enforcing or implementing the statute, regulation, or order issued pursuant thereto.

VA must be able to provide on its own initiative information that pertains to a violation of laws to law enforcement authorities in order for them to investigate and enforce those laws. Under 38 U.S.C. 5701(a) and (f), VA may only disclose the names and addresses of veterans and their dependents to Federal entities with law enforcement responsibilities. This is distinct from the authority to disclose records in response to a qualifying request from a law enforcement entity, as authorized by Privacy Act subsection 5 U.S.C. 552a(b)(7).

A new Routine Use six (6) is added. Disclosure to other Federal agencies may be made to assist such agencies in preventing and detecting possible fraud or abuse by individuals in their operations and programs.

This routine use permits disclosures by the Department to report a suspected incident of identity theft and provide information and/or documentation related to or in support of the reported incident.

A new Routine Use seven (7) is added. Disclosure of information may be made when (1) It is suspected or confirmed that the integrity or confidentiality of information in the system of records has been compromised; (2) the Department has determined that as a result of the suspected or confirmed compromise there is a risk of embarrassment or harm to the reputations of the record subjects, harm to economic or property interests, identity theft or fraud, or harm to the security or integrity of this system or other systems or programs (whether maintained by the Department or another agency or entity) that rely upon the compromised information; and (3) the disclosure is to agencies, entities, and persons who are reasonably necessary to assist or carry out the Department's efforts to respond to the suspected or confirmed compromise and prevent, minimize, or remedy such harm. This routine use permits disclosures by the Department to respond to a suspected or confirmed data breach, including the conduct of any risk analysis or provision of credit protection services as provided in 38 U.S.C. 5724, as the terms are defined in 38 U.S.C. 5727.

The notice of intent to publish and an advance copy of the system notice have been sent to the appropriate Congressional committees and to the Director of the Office of Management and Budget (OMB) as required by 5 U.S.C. 552a(r) (Privacy Act) and guidelines issued by OMB (65 FR 77677), December 12, 2000.

Approved: June 1, 2009.
John R. Gingrich,
Chief of Staff, Department of Veterans Affairs.

64VA15

System Name:

Readjustment Counseling Service (RCS) Vet Center Program—VA.

System Location:

(a) Counseling Folder: Maintained at each individual Vet Center providing readjustment counseling throughout the country. The locations of all Vet Centers providing readjustment counseling are listed in VA Appendix 2 of the Biennial Privacy Act Issuances publication.

(b) Client Information File: Certain information extracted from the counseling folder is stored on stand-alone personal computers at each Vet Center, each of the seven RCS regional managers' offices, and the RCS national data support center.

Categories of Individuals Covered by the System:

Eligible veterans who request and/or are provided readjustment counseling, including veterans' family members and/or other persons of significant relationship to the veteran who are eligible. Eligibility for readjustment counseling at Vet Centers includes any veteran who served in the military in a theater of combat operations during any period of war, or in any area during a period in which armed hostilities occurred. Family members are also eligible for readjustment counseling to the extent necessary to assist the veteran.

Categories of Records in the System:

(a) Counseling Folder: All written intake forms, applications, progress notes and demographic and clinical documentation deemed necessary to provide quality counseling and continuity of care by the counselors and/or program officials. This would include all information collected for the computerized database. (b) Client Information File: Unique veteran identification number; social security number; Vet Center team number; marital status; gender; birth date; service dates; branch of service; veteran eligibility information; theater of operation; service-connection; discharge; referral source; visit information and treatment; and other statistical information about services provided to that veteran.

Authority for Maintenance of the System:

Title 38, United States Code, section 1712A.

Purpose(s):

The purpose of this system of records is to collect and maintain all demographic and clinical information required to conduct a psychological assessment, to include a military history, and provide quality readjustment counseling to assist veterans resolve war trauma and improve their level of post-war functioning.

Routine Uses of Records Maintained in the System, Including Categories of Users and the Purposes of Such Uses:

1. The record of an individual who is covered by a system of records may be disclosed to a Member of Congress, or a staff person acting for the member, when the member or staff person requests the record on behalf of and at the written request of the individual.

2. Disclosure may be made to the National Archives and Records Administration and the General Services Administration in records management inspections conducted under authority of Title 44, Chapter 29, of the United States Code (U.S.C.).

3. Records from a system of records may be disclosed to the Department of Justice (DOJ) (including U.S. Attorneys) or in a proceeding before a court, adjudicative body, or other administrative body when litigation or the adjudicative or administrative process is likely to affect VA, its employees, or any of its components is a party to the litigation or process, or has an interest in the litigation or process, and the use of such records is deemed by VA to be relevant and necessary to the litigation or process, provided that the disclosure is compatible with the purpose for which the records were collected.

4. Disclosure of relevant information may be made to individuals, organizations, private or public agencies, or other entities with whom VA has a contract or agreement or where there is a subcontract to perform such services as VA may deem practicable for the purposes of laws administered by VA, in order for the contractor or subcontractor to perform the services of the contract or agreement.

5. VA may disclose on its own initiative any information in the system, except the names and home addresses of veterans and their dependents, that is relevant to a suspected or reasonably imminent violation of the law whether civil, criminal, or regulatory in nature and whether arising by general or program statute or by regulation, rule, or order issued pursuant thereto, to a Federal, State, local, tribal, or foreign agency charged with the responsibility of investigating or prosecuting such violation, or charged with enforcing or implementing the statute, regulation, rule, or order. VA may also disclose on its own initiative the names and addresses of veterans and their dependents to a Federal agency charged with the responsibility of investigating or prosecuting civil, criminal or regulatory violations of law, or charged with enforcing or implementing the statute, regulation, or order issued pursuant thereto.

6. Disclosure to other Federal agencies may be made to assist such agencies in preventing and detecting possible fraud or abuse by individuals in their operations and programs.

7. Disclosure of information may be made when (1) It is suspected or confirmed that the integrity or confidentiality of information in the system of records has been compromised; (2) the Department has determined that as a result of the suspected or confirmed compromise there is a risk of embarrassment or harm to the reputations of the record subjects, harm to economic or property interests, identity theft or fraud, or harm to the security or integrity of this system or other systems or programs (whether maintained by the Department or another agency or entity) that rely upon the compromised information; and (3) the disclosure is to agencies, entities, and persons whom VA determines are reasonably necessary to assist or carry out the Department's efforts to respond to the suspected or confirmed compromise and prevent, minimize, or remedy such harm. This routine use permits disclosure by the Department to respond to a suspected or confirmed data breach, including the conduct of any risk analysis or confirmed data breach, including the conduct of any risk analysis or provision of credit protection services as provided in 38 U.S.C. 5724, as the terms are defined in 38 U.S.C. 5727.

Policies and Practices for Storing, Retrieving, Accessing, Retaining, and Disposing of Records in the System:

Storage:

(a) Counseling Folder: Paper documents stored in file folders.

(b) Client Information File: Stored on stand-alone personal computer hard drives and any backup media.

Retrievability:

(a) Counseling Folder: Filed or indexed alphabetically by last name or unique Client Number.

(b) Client Information File: Indexed by Vet Center Number in conjunction with unique Client Number and social security number.

Safeguards:

(a) Counseling Folder: Access to records at Vet Centers will be controlled by Vet Center staff during working hours. During other hours, records will be maintained in locked file cabinets. In high crime areas, Vet Center offices are equipped with alarm systems. (b) Client Information File: The computerized file is in a stand-alone personal computer and access to records is for authorized Vet Center personnel. Access is achieved on a need-to-know basis with a password. Computer security is in compliance with RCS and VA computer security policy and protocol. All computers are password protected and stored inside the locked Vet Center.

Retention and Disposal:

(a) Counseling Folder: The records will be retained at the Vet Center for 50 years after the date of last activity. Destruction of counseling folders will be by shredding.

(b) Client Information File: Maintained for the duration of the program. Destruction will be by deleting all information on all Vet Center, RCS regional manager's office, and the RCS national data support center stand-alone personal computers containing the program database.

System Manager(s) and Address:

Chief Readjustment Counseling Officer (15), VA Central Office, 810 Vermont Ave, NW., Washington, DC 20420.

Notification Procedure:

A veteran who wishes to determine whether a record is being maintained by the Readjustment Counseling Service Vet Center Program under his or her name or other personal identifier or wishes to determine the contents of such records should submit a written request or apply in person to: (1) The Team Leader of the Vet Center, or the RCS Regional Manager having supervisory responsibility for the Vet Center, with whom he or she had contact, or (2) the Chief Readjustment Counseling Officer (15), VA Central Office, 810 Vermont Ave, NW., Washington, DC 20420. Inquiries should include the individual's full name and social security number.

Record Access Procedures:

An individual (or duly authorized representative of such individual) who seeks access to or wishes to contest records maintained under his or her name or other personal identifier may write, call or visit the above named individuals.

Contesting Record Procedures:

(See Record Access Procedures above.)

Record Source Categories:

(1) Relevant forms to be filled out by Vet Center team members on first contact and each contact thereafter; counseling sessions with veterans and other eligible counselees. (2) Other VA and Federal agency systems.

[FR Doc. E9-14301 Filed 6-17-09; 8:45 am]

BILLING CODE 8320-01-P